DEPARTMENT OF TRANSPORTATION

Federal Highway Administration

Notice of Final Federal Agency Actions on Proposed Highway in California; Notice of Statute of Limitations on Claims

AGENCY: Federal Highway Administration (FHWA), DOT.

ACTION: Notice of Limitation on Claims for Judicial Review of Actions by the California Department of Transportation (Caltrans), pursuant to 23 USC 327, the US Army Corps of Engineers (USACOE), and the U.S. Fish and Wildlife Service (USFWS).

SUMMARY: The FHWA, on behalf of Caltrans, is issuing this notice to announce actions taken by Caltrans, USACOE, and USFWS, that are final within the meaning of 23 U.S.C. 139(l)(1). The actions relate to a proposed highway project, on Interstate 15 (I-15) between the existing Winchester Road (State Route 79, SR-79)/I-15 Interchange and Murrieta Hot Springs Road in the vicinity of the I-15/I-215 junction within the cities of Temecula and Murrieta in Riverside County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 21, 2010. If the Federal law that authorizes judicial review of a claim provides a time period of less than 180 days for filing such claim, then that shorter time period still applies.

FOR FURTHER INFORMATION CONTACT: For Caltrans: James Shankel, Senior Environmental Planner, Environmental Studies “C” Branch Chief, California Department of Transportation, District 8, Division of Environmental Planning, 464 West 4th Street, 6th Floor MS-827, San Bernardino, California 92401-1400, available 8 a.m.-5 p.m. Monday through Friday, phone number (909) 383-6379 or e-mail: james_shankel@dot.ca.gov. For USACOE: Stephanie J. Hall, Environmental Protection Specialist/Senior Project Manager, Regulatory Division, 915 Wilshire Blvd., Los Angeles, CA 90017-3401, phone number (213) 452-3410. For USFWS: Sally Brown, 6010 Hidden Valley Road, Ste. 101, Carlsbad, CA 92011, phone number (760) 431-9440.

SUPPLEMENTARY INFORMATION: Effective July 1, 2007, the Federal Highway Administration (FHWA) assigned, and the California Department of Transportation (Caltrans) assumed, environmental responsibilities for this project pursuant to 23 U.S.C. 327. Notice is hereby given that Caltrans, USACOE, and USFWS have taken final agency actions subject to 23 U.S.C. 139(l)(1) by issuing licenses, permits, and approvals for the following highway project in the State of California: Construction of a new interchange, French Valley Parkway, along with enhancements to facilitate improved operations on the existing mainline facility. The purpose of the project is to improve traffic flow and enhance safety by reducing congestion. The project proposes a partial cloverleaf interchange at French Valley Parkway with loop on-ramps in the northwestern and southeastern quadrants and direct on-ramps in the southwestern and northeastern quadrants. French Valley Parkway will be constructed as a six-lane arterial highway from Jefferson Avenue to Ynez Road. Auxiliary lanes will be provided in both the northbound and southbound directions. An up to three-lane collector-distributor (C/D) system will be constructed parallel to I-15/I-215 confluence and Winchester Road in both the northbound and southbound directions. The actions by the Federal agencies, and the laws under which such actions were taken, are described in the Final Environmental Assessment (FEA) for the project, approved via issuance of a Finding of No Significant Impact (FONSI) on January 29, 2010, and in other documents in the FHWA project records. The FEA, FONSI, and other project records are available by contacting Caltrans at the addresses provided above.

This notice applies to all Federal agency decisions as of the issuance date of this notice and all laws under which such actions were taken, including but not limited to:

1. General: National Environmental Policy Act (NEPA) [42 U.S.C. 4321-4351]; Federal Aid-Highway Act of 1970 [23 U.S.C. 109].

2. Air: Clean Air Act, as amended [42 U.S.C. 7401-7671(q)].

3. Wildlife: Endangered Species Act [16 U.S.C. 1531-1544], Fish and Wildlife Coordination Act [16 U.S.C. 661-667 (d)], Migratory Bird Treaty Act [16 U.S.C. 703-712].

4. Historic and Cultural Resources: Section 106 of the National Historic Preservation Act of 1966, as amended [16 U.S.C. 470]; Antiquities Act of 1906 [16 U.S.C. 431-433].

5. Social and Economic: Civil Rights Act of 1964 [42 U.S.C. 2000(d)-2000(d)(1)]; the Uniform Relocation Assistance and Real Property Acquisition Policies Act of 1970, as amended [42 U.S.C. 61].

6. Wetlands and Water Resources: Clean Water Act, [33 U.S.C. 1251-1377].

7. Hazardous Materials: Comprehensive Environmental Response, Compensation, and Liability Act [42 U.S.C. 9601-9675]; Resource Conservation and Recovery Act [42 U.S.C. 6901-6992(j)].

8. Executive Orders: E.O. 11990 Protection of Wetlands; E.O. 11988 Floodplain Management; E.O. 12898 Federal Actions to Address Environmental Justice in Minority Populations and Low Income Populations; and E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: June 18, 2010.
Karen A. Bobo,
Director, Local Programs, Federal Highway Administration, Sacramento, California.

[FR Doc. 2010-15291 Filed 6-23-10; 8:45 am]

BILLING CODE 4910-RY-P